FEDERAL COMMUNICATIONS COMMISSION

47 CFR Part 73

[DA 04-1198, MB Docket No. 04-164, RM-10548]

Radio Broadcasting Services; Corning, Quincy and Susanville, CA

AGENCY: Federal Communications Commission.

ACTION: Proposed rule.

SUMMARY: This document requests comments on a petition filed by Corey J. McCaslin proposing the allotment of Channel 262A at Susanville, California, as its fourth FM broadcast aural transmission service. Channel 262A can be allotted to Susanville, consistent with the minimum distance separation requirements of the Commission's Rules using city reference coordinates. The reference coordinates for Channel 262A at Susanville are 40-24-59 North Latitude and 120-39-07 West Longitude. Additionally, to accommodate the proposed allotment of Channel 262A at Susanville, Corey J. McCaslin requests the substitution of Channel 265A for Channel 262A at Quincy, California, and modification of the license for Station KHGQ(FM) at its current transmitter site. An Order to Show Cause is issued to Keily Miller, licensee of Station KHGQ(FM), as requested. To accommodate the allotment of Channel 265A at Quincy, Corey J. McCaslin also proposes the downgrade of Station KTHU(FM), Channel 264C1, Corning, California to Channel 264B. The FM Table of Allotments was recently changed to reflect Channel 264B at Corning, California. See 68 FR 60043, published October 21, 2003.

DATES: Comments must be filed on or before June 25, 2004, and reply comments on or before July 12, 2004.

ADDRESSES: Federal Communications Commission, 445 Twelfth Street, SW., Washington DC 20554. In addition to filing comments with the FCC, interested parties should serve the petitioner, as follows: Corey J. McCaslin, P.O. Box 7612, Chico, California 95927.

FOR FURTHER INFORMATION CONTACT: Rolanda F. Smith, Media Bureau, (202) 418-2180.

SUPPLEMENTARY INFORMATION: This is a summary of the Commission's Notice of Proposed Rule Making, MB Docket No. 04-164, adopted April 30, 2004, and released May 4, 2004. The full text of this Commission decision is available for inspection and copying during normal business hours in the Commission's Reference Center 445 Twelfth Street, SW., Washington, DC 20554. The complete text of this decision may also be purchased from the Commission's duplicating contractor, Qualex International Portals II, 445 12th Street, SW., Room CY-B402, Washington, DC 20554, telephone 202-863-2893, facsimile 202-863-2898, or via e-mail qualexint@aol.com.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under California, is amended by adding Channel 265A and removing Channel 262A at Quincy; and by adding Channel 262A at Susanville.

Federal Communications Commission.
John A. Karousos,
Assistant Chief, Audio Division, Media Bureau.

[FR Doc. 04-11919 Filed 5-25-04; 8:45 am]

BILLING CODE 6712-01-P